DEPARTMENT OF LABOR

Employment and Training Administration

[TA-W-65,238]

Allied Air Enterprises, Inc.; Blackville, SC; Notice of Termination of Investigation

Pursuant to Section 221 of the Trade Act of 1974, as amended, an investigation was initiated on February 19, 2009 in response to a petition filed by a company official on behalf of the workers at Allied Air Enterprises, Inc., Blackville, South Carolina.

The petitioner has requested that the petition be withdrawn, but indicated he would reapply when circumstances change. Consequently, this investigation has been terminated.

Signed at Washington, DC, this 19th day of February 2009.
Richard Church,
Certifying Officer, Division of Trade Adjustment Assistance.

[FR Doc. E9-4409 Filed 3-2-09; 8:45 am]

BILLING CODE 4510-FN-P